DEPARTMENT OF HOMELAND SECURITY

U.S. Customs and Border Protection

Notice of Cancellation of Customs Broker License

AGENCY: U.S. Customs and Border Protection, U.S. Department of Homeland Security.

ACTION: General notice.

SUMMARY: Pursuant to section 641 of the Tariff Act of 1930, as amended, (19 U.S.C. 1641) and the U.S. Customs and Border Protection regulations (19 CFR 111.51(b)), the following Customs broker licenses and all associated permits are cancelled with prejudice.

Name | License # | Issuing port
Hugo Jimenez | 15547 | Miami.
Allied Customs Broker & Forwarders, Inc. | 20090 | Miami.

Dated: July 27, 2010.
Daniel Baldwin,
Assistant Commissioner, Office of International Trade.

[FR Doc. 2010-19477 Filed 8-6-10; 8:45 am]

BILLING CODE 9111-14-P